INTERNATIONAL TRADE COMMISSION

[Investigation Nos. 701-TA-302 and 731-TA-454 (Third Review)]

Fresh and Chilled Atlantic Salmon From Norway

Determination

On the basis of the record ¹ developed in the subject five-year reviews, the United States International Trade Commission (Commission) determines, pursuant to section 751(c) of the Tariff Act of 1930 (19 U.S.C. 1675(c)), that revocation of the countervailing duty order and antidumping duty order on fresh and chilled Atlantic salmon from Norway would not be likely to lead to continuation or recurrence of material injury to an industry in the United States within a reasonably foreseeable time.²

¹ The record is defined in sec. 207.2(f) of the Commission's Rules of Practice and Procedure (19 CFR 207.2(f)).

² Commissioner David S. Johanson did not participate in these five-year reviews.

Background

The Commission instituted these reviews on January 3, 2011 (76 FR 166) and determined on April 8, 2011 that it would conduct full reviews (76 FR 22422, April 21, 2011). Notice of the scheduling of the Commission's reviews and of a public hearing to be held in connection therewith was given by posting copies of the notice in the Office of the Secretary, U.S. International Trade Commission, Washington, DC, and by publishing the notice in the Federal Register on July 1, 2011 (76 FR 38698). The hearing was held in Washington, DC, on November 30, 2011, and all persons who requested the opportunity were permitted to appear in person or by counsel.

The Commission transmitted its determination in these reviews to the Secretary of Commerce on February 16, 2011. The views of the Commission are contained in USITC Publication 4303 (February 2012), entitled Fresh and Chilled Atlantic Salmon from Norway: Investigation Nos. 701-TA-302 and 731-TA-454 (Third Review).

Issued: February 17, 2012.
By order of the Commission.
James R. Holbein,
Secretary to the Commission.

[FR Doc. 2012-4199 Filed 2-22-12; 8:45 am]

BILLING CODE 7020-02-P